DEPARTMENT OF THE TREASURY

Office of Thrift Supervision

IndyMac Bank, F.S.B., Pasadena, CA; Notice of Appointment of Receiver

Notice is hereby given that, pursuant to the authority contained in section 5(d)(2) of the Home Owners' Loan Act, the Office of Thrift Supervision has duly appointed the Federal Deposit Insurance Corporation as sole Receiver for IndyMac Bank, F.S.B., Pasadena, California (OTS No. 03970) and as Conservator for IndyMac Federal Bank, FSB, Pasadena, California (OTS No. 18115) on July 11, 2008.

Dated: July 15, 2008.
By the Office of Thrift Supervision.
Sandra E. Evans,
Federal Register Liaison Officer.

[FR Doc. E8-16502 Filed 7-18-08; 8:45 am]

BILLING CODE 6720-01-M